DEPARTMENT OF THE INTERIOR

National Park Service

[NPS-NERO-CACO-26016; PPNECACOS0, PPMPSD1Z.YM0000]

Cape Cod National Seashore Advisory Commission Notice of Public Meeting

AGENCY: National Park Service, Interior.

ACTION: Meeting notice.

SUMMARY: In accordance with the Federal Advisory Committee Act of 1972, the National Park Service (NPS) is hereby giving notice of the 308th meeting of the Cape Cod National Seashore Advisory Commission.

DATES: The meeting will be held on Monday, September 24, 2018, at 1:00 p.m. (Eastern).

ADDRESSES: The meeting will be held in the conference room at park headquarters, 99 Marconi Site Road, Wellfleet, Massachusetts 02667.

FOR FURTHER INFORMATION CONTACT: Further information concerning the meeting may be obtained from Brian Carlstrom, Superintendent and Designated Federal Officer, Cape Cod National Seashore, 99 Marconi Site Road, Wellfleet, Massachusetts 02667, or at (508) 771-2144 or by email at brian_carlstrom@nps.gov.

SUPPLEMENTARY INFORMATION: The Commission was reestablished pursuant to Public Law 87-126, as amended by Public Law 105-280 (16 U.S.C. 459b-7). The purpose of the Commission is to consult with the Secretary of the Interior, or his designee, with respect to matters relating to the development of Cape Cod National Seashore, and with respect to carrying out the provisions of sections 4 and 5 of the Act establishing the Seashore.

Purpose of the Meeting: The purpose of the meeting is to discuss the following:

1. Adoption of Agenda

2. Approval of Minutes of Previous Meeting

(June 18, 2018)

3. Reports of Officers

4. Reports of Subcommittees

5. Superintendent's Report

Certificates of Suspension from Condemnation (CSC), 8 expire in December 2018

Shorebird Management Plan/Environmental Assessment—Update

Seashore Projects

Herring River Wetland Restoration

Healthy Parks, Healthy People

6. Old Business

Update on Horton's Campground Private Commercial Properties Related to their CSCs

7. New Business

Action Item—Recommendations to Superintendent on CSCs

8. Public Comment

9. Adjournment

The meeting is open to the public. Interested persons may make oral/written presentations to the Commission during the business meeting or file written statements. Such requests should be made to the park superintendent prior to the meeting.

Public Disclosure of Comments: Before including your address, phone number, email address, or other personal identifying information in your comment, you should be aware that your entire comment—including your personal identifying information—may be made publicly available at any time. While you can ask us in your comment to withhold your personal identifying information from public review, we cannot guarantee that we will be able to do so.

Authority: 5 U.S.C. Appendix 2.

Alma Ripps,
Chief, Office of Policy.

[FR Doc. 2018-19118 Filed 8-31-18; 8:45 am]

BILLING CODE 4312-52-P